ENVIRONMENTAL PROTECTION AGENCY

40 CFR Part 232

404 Program Definitions; Exempt Activities Not Requiring 404 Permits

CFR Correction

In Title 40 of the Code of Federal Regulations, Parts 190 to 259, revised as of July 1, 2016, on page 319, in § 232.2, the first definition of Waters of the United States is removed.

[FR Doc. 2017-11894 Filed 6-7-17; 8:45 am]

BILLING CODE 1301-00-D